DEPARTMENT OF COMMERCE

National Oceanic and Atmospheric Administration

50 CFR Part 300

[Docket No. 200310-0075]

RIN 0648-BJ56

Pacific Halibut Fisheries; Catch Sharing Plan

AGENCY: National Marine Fisheries Service (NMFS), National Oceanic and Atmospheric Administration (NOAA), Commerce.

ACTION: Final rule.

SUMMARY: The Assistant Administrator for Fisheries, National Oceanic and Atmospheric Administration (NOAA), on behalf of the International Pacific Halibut Commission (IPHC), publishes as regulations the 2020 annual management measures governing the Pacific halibut fishery that have been recommended by the IPHC and accepted by the Secretary of State. This action is intended to enhance the conservation of Pacific halibut and further the goals and objectives of the Pacific Fishery Management Council (PFMC) and the North Pacific Fishery Management Council (NPFMC).

DATES: The IPHC's 2020 annual management measures are valid March 13, 2020. The 2020 management measures are effective until superseded.

ADDRESSES: Additional requests for information regarding this action may be obtained by contacting the International Pacific Halibut Commission, 2320 W Commodore Way, Suite 300, Seattle, WA 98199-1287; or Sustainable Fisheries Division, NMFS Alaska Region, P.O. Box 21668, Juneau, AK 99802; or Sustainable Fisheries Division, NMFS West Coast Region, 7600 Sand Point Way NE, Seattle, WA 98115. This final rule also is accessible via the internet at the Federal eRulemaking portal at http://www.regulations.gov, identified by docket number NOAA-NMFS-2019-0006.

FOR FURTHER INFORMATION CONTACT: For waters off Alaska, Kurt Iverson, 907-586-7210; or, for waters off the U.S. West Coast, Kathryn Blair, 503-231-6858.

SUPPLEMENTARY INFORMATION:

Background

The IPHC has recommended regulations that would govern the Pacific halibut fishery in 2020, pursuant to the Convention between Canada and the United States for the Preservation of the Halibut Fishery of the North Pacific Ocean and Bering Sea (Convention), signed at Ottawa, Ontario, on March 2, 1953, as amended by a Protocol Amending the Convention (signed at Washington, DC, on March 29, 1979).

As provided by the Northern Pacific Halibut Act of 1982 (Halibut Act) at 16 U.S.C. 773b, the Secretary of State, with the concurrence of the Secretary of Commerce, may accept or reject, on behalf of the United States, regulations recommended by the IPHC in accordance with the Convention (Halibut Act, Sections 773-773k). The Secretary of State, with the concurrence of the Secretary of Commerce, accepted the 2020 IPHC regulations as provided by the Halibut Act.

The Halibut Act provides the Secretary of Commerce with the authority and general responsibility to carry out the requirements of the Convention and the Halibut Act. The Regional Fishery Management Councils may develop, and the Secretary of Commerce may implement, regulations governing harvesting privileges among U.S. fishermen in U.S. waters that are in addition to, and not in conflict with, approved IPHC regulations. The NPFMC has exercised this authority in developing halibut management programs for three fisheries that harvest halibut in Alaska: The subsistence, sport, and commercial fisheries. The PFMC has exercised this authority by developing a catch sharing plan governing the allocation of halibut and management of sport fisheries on the U.S. West Coast.

The IPHC apportions catch limits for the Pacific halibut fishery among regulatory areas (Figure 1): Area 2A (Oregon, Washington, and California), Area 2B (British Columbia), Area 2C (Southeast Alaska), Area 3A (Central Gulf of Alaska), Area 3B (Western Gulf of Alaska), and Area 4 (subdivided into 5 areas, 4A through 4E, in the Bering Sea and Aleutian Islands of Western Alaska).

Subsistence and sport halibut fishery regulations for Alaska are codified at 50 CFR part 300. Commercial halibut fisheries off Alaska are subject to the Individual Fishing Quota (IFQ) Program and Community Development Quota (CDQ) Program (50 CFR part 679) regulations, and the area-specific catch sharing plans (CSPs) for Areas 2C, 3A, and Areas 4C, 4D, and 4E.

The NPFMC implemented a CSP among commercial IFQ and CDQ halibut fisheries in IPHC Regulatory Areas 4C, 4D, and 4E (Area 4, Western Alaska) through rulemaking, and the Secretary of Commerce approved the plan on March 20, 1996 (61 FR 11337). The Area 4 CSP regulations were codified at 50 CFR 300.65, and were amended on March 17, 1998 (63 FR 13000). New annual regulations pertaining to the Area 4 CSP also may be implemented through IPHC action, subject to acceptance by the Secretary of State.

The NPFMC recommended and NMFS implemented through rulemaking a CSP for guided sport (charter) and commercial IFQ halibut fisheries in IPHC Regulatory Area 2C and Area 3A on January 13, 2014 (78 FR 75844, December 12, 2013). The Area 2C and 3A CSP regulations are codified at 50 CFR 300.65. The CSP defines an annual process for allocating halibut between the commercial and charter fisheries so that each sector's allocation varies in proportion to halibut abundance, specifies a public process for setting annual management measures, and authorizes limited annual leases of commercial IFQ for use in the charter fishery as guided angler fish (GAF).

The IPHC held its annual meeting in Anchorage, Alaska, February 3-7, 2020, and recommended a number of changes to the previous IPHC regulations (84 FR 9243 March 14, 2019). The Secretary of State accepted the annual management measures, including the following changes to sections of the 2020 IPHC regulations:

1. New commercial halibut fishery opening and closing dates in Section 9;

2. New halibut catch limits in all regulatory areas, including two new tables in Section 5 that distinguish limits resulting from Commission decisions from catch limits that are the responsibility of the respective United States and Canada governments.

3. New management measures for Area 2C and Area 3A guided sport fisheries in Section 29.

4. An update of the regulatory description of Subarea 2A-1 in Section 23.

5. An amendment that updates and clarifies regulations in Section 16 for vessel clearance requirements in IPHC Regulatory Area 4.

6. Minor revisions and clarifications to regulatory language, including a reordering of some regulatory sections.

Pursuant to regulations at 50 CFR 300.62, the 2020 IPHC annual management measures are published in the Federal Register to provide notice of their immediate regulatory effectiveness and to inform persons subject to the regulations of their restrictions and requirements. Because NMFS publishes the regulations applicable to the entire Convention area, these regulations include some provisions relating to and affecting Canadian fishing and fisheries. NMFS may implement more restrictive regulations for the fishery for halibut or components of it; therefore, anglers are advised to check the current Federal and IPHC regulations prior to fishing.

Catch Limits

The IPHC recommended to the governments of Canada and the United States fishery catch limits for 2020 totaling 27,480,000 lb (12,460.18 mt). Overall, the IPHC recommended area-specific catch limits for 2020 that were lower than the catch limits implemented in 2019. The catch limits in most regulatory areas decreased, with exceptions in Areas 2A, which remained the same as 2019, and Areas 2B and 3B, where catch limits were slightly higher relative to the 2019 implemented levels. A description of the process the IPHC used to set these catch limits follows.

In 2019, the IPHC conducted its annual stock assessment using a range of updated data sources as described in detail in the IPHC overview of data sources for the Pacific halibut stock assessment, harvest policy, and related analyses (IPHC-2020-AM096-09 Rev_2; available at www.iphc.int). To evaluate the Pacific halibut stock, the IPHC used an “ensemble” of four equally weighted models, comprised of two long time-series models, and two short time-series models incorporating data from 1996 to the present. Each time-series length used data series that are divided either by four geographical regions or aggregated into coastwide summaries. These models incorporate data from the 2019 IPHC Fishery Independent Setline Survey (FISS), the 2019 commercial halibut fishery, the most recent NMFS trawl survey, weight-at-age estimates by region, the male/female ratio of the directed commercial recreational fisheries, and age distribution information for bycatch, sport, and sublegal discard removals.

As has been the case since 2012, the results of the ensemble models are integrated and incorporate uncertainty in natural mortality rates, environmental effects on recruitment, and other structural and parameter categories. The data and assessment models used by the IPHC are reviewed by the IPHC's Scientific Review Board comprised of non-IPHC scientists who provide an independent scientific review of the stock assessment data and models and provide recommendations to IPHC staff and to the Commission. The Scientific Review Board did not identify any substantive errors in the data or methods used in the 2020 stock assessment. NMFS believes the IPHC's data and assessments models constitute best available science on the status of the Pacific halibut resource.

The IPHC's data, including the FISS, indicate that the Pacific halibut stock declined continuously from the late 1990s to around 2012, largely as a result of decreasing size at a given age (size-at-age), higher harvest rates in early 2000s, as well as somewhat weaker recruitment strengths than those observed during the 1980s. Results from the 2020 stock assessment incorporate ongoing efforts to expand the FISS throughout the survey range. Among other things, improvements in the setline spatial coverage have helped reduce the uncertainty in the weight per unit effort (WPUE) and number per unit effort (NPUE) indices.

Overall, the biomass of spawning females is estimated to have increased gradually to 2016, then decreased to approximately 194,000,000 lb (87,996.92 mt) at the beginning of 2020. This level is currently estimated to be 32 percent (with a 95% credible interval of 22% to 46%) of unfished levels. This estimate reflects updated calculations recommended during stock assessment external review and review by the Scientific Review Board, as well as developments in the IPHC Management Strategy Evaluation.

The IPHC's interim management procedure strives to maintain the total mortality of halibut across its range from all sources based on a reference level of fishing intensity so that the Spawning Potential Ratio (SPR) is equal to 46 percent. The reference fishing intensity of F46 percent SPR seeks to allow a level of fishing intensity that is expected to result in approximately 46 percent of the spawning stock biomass per recruit compared to an unfished stock (i.e., no fishing mortality). Lower values indicate higher fishing intensity. The 2020 stock assessment and estimates of fishing intensity were enhanced by newly available data on the male/female sex ratio of commercial fishery landings. Refined and quantified information on the sex ratio affected the treatment of the stock assessment data for the directed commercial fishery in the stock assessment models; it did not change the treatment or sex ratio estimates of mortalities associated with the recreational, subsistence, or non-directed halibut fisheries. Additional information on the status of the halibut resource under these catch limit alternatives is provided in the Analysis (see ADDRESSES).

The IPHC harvest decision table (Table 4 in: Summary of the Data, Stock Assessment, and Harvest Decision Table for the Pacific Halibut Stock at the End of 2019; IPHC-2020-AM096-09 Rev_2) provides a comparison of the relative risk of a decrease in stock biomass, status, or fishery metrics, for a range of alternative harvest levels for 2020. The harvest decision table employs two metrics of fishing mortality: (1) The Total Constant Exploitation Yield (TCEY), which includes harvests and incidental wastage from directed commercial fisheries, plus mortality estimates from sport, subsistence, personal use, and estimates of non-directed discard mortality of halibut over 26 inches; and, (2) Total Mortality, which includes all the above sources of mortality, plus estimates of non-directed discard mortality of halibut less than 26 inches (U26). Although U26 halibut mortality is factored into the stock assessment and harvest strategy calculations, there is currently no reliable tool for describing the annual distribution of halibut under 26 inches across the entire coastwide area.

For 2020, the IPHC adopted a TCEY totaling 36,600,000 lb (16,601.48 mt) coastwide. This corresponds to a fishing intensity of approximately F42 percent, which is less restrictive than the interim reference level of F46 percent, but 2,010,000 lb (911.72 mt) less than the TCEY adopted in 2019. The IPHC noted this management approach represents a relatively conservative level of harvest that considers the inherent uncertainties in the stock assessment models. The IPHC notes that under a broad range of catch limits, including highly restrictive catch limits, the halibut stock is likely to experience a continued decrease in spawning stock biomass given the best available scientific information. In making its recommendation, the IPHC considered likely stock status, and uncertainties in the status of the stock as well as the significant social and economic impacts of reduced catch limits.

At a 36,600,000 lb TCEY, the IPHC estimates that the spawning stock biomass will decrease over the period from 2021 to 2023 relative to 2020. Specifically, the IPHC estimates that there is a 95 percent probability that the spawning stock biomass will decrease in 2021 relative to 2020, and that there is a 58 percent probability that the decrease in 2021 will be at least 5 percent of the 2020 spawning stock biomass. The factors that the IPHC considered in making their TCEY recommendations are described in the 2020 Annual Meeting Report (IPHC-2020-AM96_R) and the key recommendations are briefly summarized here.

This final rule does not establish the combined commercial and recreational catch limit for Area 2B (British Columbia), which is subject to rulemaking by the Canada and British Columbia governments. However, the IPHC's recommendation for the Area 2B catch limit is directly related to the current and future U.S. catch limits established by this final rule and is therefore discussed herein. The IPHC recommended a 2020 TCEY of 6,830,000 lb (3,098.04 mt) for Area 2B, which equates to 18.7 percent of the total coastwide TCEY. The IPHC made this recommendation after considering recent historic harvests in Area 2B, the distribution of the TCEY in Area 2B as estimated from the FISS under the current interim management procedure, and other factors described in the 2020 IPHC Annual Meeting Report (IPHC-2020-AM96_R).

The IPHC recommended an allocation to Area 2A that would provide a TCEY of 1,650,000 lb (748.43 mt) with a combined commercial, subsistence, and recreational catch limit of 1,500,000 lb (680.39 mt). This allocation is larger than the catch limit that would apply to Area 2A under the adopted fishing intensity of F42 percent and the proportion of the stock as estimated from the FISS under the current interim management procedure. To achieve the Area 2A and Area 2B allocations and still maintain the target coastwide fishing intensity of F42, the IPHC recommended an overall reduction in catch limits in other IPHC regulatory areas in U.S. waters that are intended to maintain total mortality to the adopted fishing intensity of F42 percent.

After the allocations for Areas 2A and 2B are accounted for, the IPHC apportioned the remaining TCEY to the Alaska regulatory areas (Areas 2C through Area 4) after considering the distribution of harvestable biomass of halibut based on the Fishery Independent Setline Survey, as well as 2019 harvest rates, the recommendations from the IPHC's advisory boards, public input, and social and economic factors. The only U.S. area with an increased TCEY relative to 2019 is Area 3B (+7.6 percent; see Table 1). Information from the Fishery Independent Setline Survey indicated a higher amount of harvestable biomass of halibut in Area 3B in 2020 relative to 2019. Areas 2C, 3A, 4A, 4B, and 4CDE received decreases over 2019 levels that ranged from −2.5 percent in Areas 4CDE to −9.8 percent in Area 4A. The IPHC determined that the 2020 catch limit recommendations are consistent with its conservation objectives for the halibut stock and its management objectives for the halibut fisheries.

The IPHC also considered the Catch Sharing Plan for Area 4CDE developed by the NPFMC in its catch limit recommendation. The Area 4CDE catch limit is determined by subtracting estimates of the Area 4CDE subsistence harvests, commercial discard mortality, and non-directed discard mortality of halibut over 26 inches from the area TCEY. When the resulting Area 4CDE catch limit is greater than 1,657,600 lb (751.87 mt), a direct allocation of 80,000 lb (36.29 mt) is made to Area 4E to provide CDQ fishermen in that area with additional harvesting opportunity. After this 80,000 lb allocation is deducted from the catch limit, the remainder is divided among Areas 4C, 4D, and 4E according to the percentages specified in the CSP. Those percentages are 46.43 percent each to 4C and 4D, and 7.14 percent to 4E. For 2020, the IPHC recommended a catch limit for Area 4CDE of 1,730,000 lb (925.33 mt).

Table 1—Percent Change in TCEY Catch Limits From 2019 to 2020 by IPHC Regulatory Area
Regulatory area | 2019 Catch limit (lb) | 2020 Catch limit (lb) | Change from 2019 (percent)
2A | 1,650,000 | 1,650,000 | 0.0
2B | 6,830,000 | 6,830,000 | 0.0
2C | 6,340,000 | 5,850,000 | −7.7
3A | 13,500,000 | 12,200,000 | −9.6
3B | 2,900,000 | 3,120,000 | 7.6
4A | 1,940,000 | 1,750,000 | −9.8
4B | 1,450,000 | 1,310,000 | −9.7
4CDE | 4,000,000 | 3,900,000 | −2.5
Coastwide | 38,610,000 | 36,600,000 | −5.2

Commercial Halibut Fishery Opening and Closing Dates

The IPHC considers advice from the IPHC's two advisory boards when selecting opening and closing dates for the halibut fishery. The opening date for all IPHC regulatory areas is March 14, 2020, which closely corresponds to the 2019 opening date of March 15. The closing date for the halibut fisheries in all regulatory areas is November 15, 2020. This date takes into account the anticipated time required to fully harvest the commercial halibut catch limits, seasonal holidays, and adequate time for IPHC staff to review the complete record of 2020 commercial catch data for use in the stock assessment process.

For Area 2A, the IPHC recommended that the non-treaty directed commercial fishery will open for 58 hours, beginning at 0800 hours on June 22 and closing at 1800 hours on June 24. After this first opening, if the IPHC determines that the fishing limit has not been exceeded, it may announce other Area 2A openings of up to three fishing days in duration in two-week intervals after the first Monday opening. Specific fishing period limits (vessel quota) will be determined and communicated by IPHC.

Area 2A Catch Sharing Plan

The NMFS West Coast Region has published a proposed rule for changes to the Pacific Halibut Catch Sharing Plan (CSP) for Area 2A off Washington, Oregon, and California (85 FR 6883 February 6, 2020). Public comments were accepted through March 9, 2020. Following the comment period, the West Coast Region will publish a final rule to address the proposed changes to the Area 2A CSP as well as portions of the CSP and management measures that are not implemented through the IPHC. These measures include the sport fishery allocations and management measures for Area 2A. The proposed and final rules for the Area 2A CSP will be available on the NOAA Fisheries West Coast Region's website at https://www.fisheries.noaa.gov/action/2020-pacific-halibut-catch-sharing-plan, and also at www.regulations.gov.

Catch Sharing Plan for Area 2C and Area 3A

In 2014, NMFS implemented a CSP for Area 2C and Area 3A. The CSP defines an annual process for allocating halibut between the charter and commercial fisheries in Area 2C and Area 3A, and establishes allocations for each fishery. To allow flexibility for individual commercial and charter fishery participants, the CSP also authorizes annual transfers of commercial halibut IFQ as GAF to charter halibut permit holders for harvest in the charter fishery. Under the CSP, the IPHC recommends combined catch limits (CCLs) for the charter and commercial halibut fisheries in Area 2C and Area 3A. Each CCL includes estimates of discard mortality (wastage) for each fishery. The CSP was implemented to achieve the halibut fishery management goals of the NPFMC. More information is provided in the final rule implementing the CSP (78 FR 75844, December 12, 2013). Implementing regulations for the CSP are at 50 CFR 300.65. The Area 2C and Area 3A CSP allocation tables are located in Tables 1 through 4 of subpart E of 50 CFR part 300.

At its February 2020 meeting, the IPHC recommended a CCL of 4,260,000 lb (1,932.30 mt) for Area 2C. Following the CSP allocations in Tables 1 and 3 of subpart E of 50 CFR part 300, the charter fishery is allocated 780,000 lb (353.80 mt) of the CCL and the remainder of the CCL, 3,480,000 lb (1,578.50 mt), is allocated to the commercial fishery. Wastage in the amount of 70,000 lb (31.75 mt) was deducted from the commercial allocation to obtain the commercial catch limit of 3,410,000 lb (1,546.75 mt). The commercial allocation (including wastage) decreased by 190,000 lb (86.18 mt) or 5.2 percent, from the 2019 allocation of 3,670,000 lb (1,664.68 mt). The charter allocation for 2020 decreased by 40,000 lb (18.14 mt), or 4.9 percent less than the 2019 charter sector allocation of 820,000 lb (371.95 mt).

The IPHC recommended a CCL of 9,050,000 lb (4,105.01 mt) for Area 3A. Following the CSP allocations in Tables 2 and 4 of subpart E of 50 CFR part 300, the charter fishery is allocated 1,710,000 lb (775.64 mt) of the CCL and the remainder of the CCL, 7,340,000 lb (3,329.37 mt), is allocated to the commercial fishery. Wastage in the amount of 290,000 lb (131.54 mt) was deducted from the commercial allocation to obtain the commercial catch limit of 7,050,000 lb (3,197.83 mt). The commercial allocation (including wastage) decreased by about 1,030,000 lb (317.51 mt) or 12.3 percent, from the 2019 allocation of 8,370,000 lb (3,796.57 mt). The charter allocation decreased by 180,000 lb (81.67 mt), or 9.5 percent, from the 2019 allocation of 1,890,000 lb (857.29 mt).

Charter Halibut Management Measures for Area 2C and Area 3A

Guided (charter) recreational halibut anglers are managed under different regulations than unguided recreational halibut anglers in Areas 2C and 3A in Alaska. According to Federal regulations at 50 CFR 300.61, a charter vessel angler means a person, paying or non-paying, receiving sport fishing guide services for halibut. Sport fishing guide services means assistance, for compensation or with the intent to receive compensation, to a person who is sport fishing, to take or attempt to take halibut by accompanying or physically directing the sport fisherman in sport fishing activities during any part of a charter vessel fishing trip. A charter vessel fishing trip is the time period between the first deployment of fishing gear into the water from a charter vessel by a charter vessel angler and the offloading of one or more charter vessel anglers or any halibut from that vessel. The charter fishery regulations described below apply only to charter vessel anglers receiving sport fishing guide services during a charter vessel fishing trip for halibut in Area 2C or Area 3A. These regulations do not apply to unguided recreational anglers in any regulatory area in Alaska, or guided anglers in areas other than Areas 2C and 3A.

The NPFMC formed the Charter Halibut Management Committee as an industry advisory body to provide recommendations for annual management measures intended to limit charter harvest to the charter catch allocation. The committee is composed of representatives from the charter fishing industry in Areas 2C and 3A. The committee considered previously analyzed alternatives and also suggested new alternative measures that were analyzed in November 2019. For Area 3A, none of the alternative measures resulted in projected removals within the likely range, so the NPFMC requested additional analyses, which were subsequently reviewed in January 2020. After reviewing all the analyses of the effects of the alternative measures on estimated charter removals, the committee made recommendations for preferred management measures to the NPFMC for 2020. The NPFMC considered the recommendations of the committee along with public testimony to develop its recommendation to the IPHC, and the IPHC took action consistent with the NPFMC's recommendations. The NPFMC has used this process to select and recommend annual management measures to the IPHC since 2012.

The IPHC recognizes the role of the NPFMC to develop policy and regulations that allocate the Pacific halibut resource among fishermen in and off Alaska, and that NMFS has developed numerous regulations to support the NPFMC's goals of limiting charter harvests. For each regulatory area, the analysis suggests the management measures will achieve the IPHC's overall conservation objective to keep halibut harvests within established catch limits, and will also meet the NPFMC's allocation objectives. For 2020, the IPHC concluded that in Area 3A, with its lower recommended catch limits relative to 2019, the management measures should be more restrictive than 2019. For Area 2C, the 2020 catch limits are also lower than 2019. However, the effect of management measures over the last two years has resulted in under-harvests of the charter allocation by 18.9 and 11.6 percent, respectively. Consequently, the IPHC determined that the charter management measures in Area 2C could be slightly less restrictive than 2019. The IPHC determined that limiting charter harvests by implementing the management measures discussed below would meet the conservation and allocation objectives.

Management Measures for Charter Vessel Fishing in Area 2C

The preliminary estimate of 2019 charter removals in Area 2C was below the 2019 charter allocation by 154,712 lb (70.31 mt) or 18.9 percent, indicating that the management measures were effective at limiting harvest by charter vessel anglers to the charter allocation. The two primary management measures in Area 2C in 2019 were a daily bag limit of 1 halibut per charter angler, and size limits where retained halibut were required to be less than or equal to 38 inches (96.5 cm), or greater than or equal to 80 inches (203.2 cm). The effect of these regulations is to limit both the number and pounds of retained halibut. The analysis also indicates that in most years since 2014 when the CSP was implemented, the Area 2C harvest has been less than the allocation. Further analysis of alternative management measures indicates that both effort and the number of harvested halibut is projected to decrease in 2020 under status quo regulations. When these considerations were balanced with the reduced charter allocation in 2020, the IPHC concluded that less restrictive management measures for Area 2C in 2020 are appropriate.

Specifically, for 2020 in Area 2C, the IPHC recommended the continuation of a one-fish daily bag limit with a reverse slot limit that prohibits a person on board a charter vessel referred to in 50 CFR 300.65 and fishing in Area 2C from taking or possessing any halibut, with head on, that is greater than 40 inches (101.6 cm) and less than 80 inches (203.2 cm), as measured in a straight line, passing over the pectoral fin from the tip of the lower jaw with mouth closed, to the extreme end of the middle of the tail. The projected charter removal under these measures is 772,000 lb (350.17 mt), which is 8,000 lb (3.63 mt) and 1.0 percent below the charter allocation.

Management Measures for Charter Vessel Fishing in Area 3A

The preliminary estimate of charter removals in Area 3A in 2019 exceeded the charter allocation by 122,246 lb (55.45 mt), or 6.5 percent. Starting in 2014, charter vessel anglers in Area 3A have been limited to a two-fish daily bag limit with a maximum size limit on one fish. One effect of the maximum size limit has been that the number of fish harvested per angler has steadily decreased, but the average weight of harvested fish has increased as many anglers opted to maximize the size of retained fish.

This final rule revises the management measures that were adopted for the charter halibut fishery in Area 3A in 2019. The NPFMC and IPHC considered 2019 information on charter removals and the projections of charter harvest for 2020. After considering 2019 harvest information, the NPFMC and IPHC determined that more restrictive management measures in Area 3A were appropriate to limit charter removals, including wastage, to the 2020 allocation.

For 2020, the IPHC recommended the following management measures for Area 3A: (1) A two-fish bag limit with a 26-inch (66.0 cm) size limit on one of the halibut; (2) a one-trip per day limit for charter vessels and for charter halibut permits for the entire season; (3) an annual limit of four fish, with a reporting requirement; and, (4) prohibition on halibut retention by charter vessel anglers on all Tuesdays and all Wednesdays. The projected charter harvest for 2020 under this combination of recommended measures is 1,696,000 lb (769.29 mt), and 14,000 lb (6.35 mt) below the charter allocation. Each of these management measures is described in more detail below.

Size Limit for Halibut Retained on a Charter Vessel in Area 3A

The 2020 charter halibut fishery in Area 3A will be managed under a two-fish daily bag limit in which one of the retained halibut may be of any size and one of the retained halibut must be 26 inches or less, as measured in a straight line, passing over the pectoral fin from the tip of the lower jaw to the extreme end of the middle of the tail. This is a decrease of the 28 inch (71.cm) maximum size limit that was in place from 2016 through 2019. This daily bag and size limit will be combined with additional restrictions to limit charter halibut removals to the 2020 allocation.

Trip Limit for Charter Vessels Harvesting Halibut in Area 3A

As in 2016 through 2019, charter halibut permits and charter vessels are only authorized for use to catch and retain halibut on one charter halibut fishing trip per day in Area 3A. If no halibut are retained during a charter vessel fishing trip, the charter halibut permit and vessel may be used to take an additional trip to catch and retain halibut that day.

For purposes of the trip limit in Area 3A in 2020, a charter vessel fishing trip will end when anglers or halibut are offloaded, or at the end of the calendar day, whichever occurs first. Charter operators are still able to conduct overnight trips and anglers may retain a bag limit of halibut on two calendar days, but operators are not allowed to begin another overnight trip until the day after the trip ends. GAF halibut are exempt from the trip limit. Therefore, GAF could be used to harvest halibut on a second trip in a day, but only if exclusively GAF halibut were harvested on that trip.

Day-of-Week Closures in Area 3A

The NPFMC and the IPHC recommended continuing the day-of-week closure on Wednesdays for Area 3A in 2020. No retention of halibut by charter vessel anglers will be allowed in Area 3A on Wednesdays. To further reduce harvest, retention of halibut is also prohibited on all Tuesdays in 2020. Retention of only GAF halibut will be allowed on charter vessels on Tuesdays and Wednesdays; all other halibut that are caught while fishing on a charter vessel must be released. The Tuesday and Wednesday closures are expected to effectively decrease the charter halibut harvest, relative to previous years.

Annual Limit of Four Fish for Charter Vessels Anglers in Area 3A

For 2020, charter vessel anglers will continue to be limited to harvesting no more than four halibut on charter vessel fishing trips in Area 3A during a calendar year. This limit applies only to halibut caught and retained during charter vessel fishing trips in Area 3A. Halibut harvested while unguided fishing, fishing in other IPHC regulatory areas, or harvested as GAF will not accrue toward the annual limit.

To enforce the annual limit in 2020, each charter vessel angler who is required to have a State of Alaska sport fishing license and who harvests halibut will be required to record those halibut on the back of the fishing license. For those anglers who are not required to have a sport fishing license (e.g., youth and senior anglers), a nontransferable Sport Harvest Record Card must be obtained from an Alaska Department of Fish and Game (ADF&G) office, the ADF&G website, or a fishing license vendor, on which to record halibut harvested aboard a charter vessel. Immediately upon retention of a halibut for which an annual limit has been established, the charter vessel angler must record the date, location (Area 3A), and species of the catch (halibut), in ink, on the harvest record card or back of the sport fishing license.

If the original sport fishing license or harvest record is lost, a duplicate or additional sport fishing license or harvest record card must be obtained and completed for all halibut previously retained during that year that were subject to the annual limit.

Only halibut caught during a charter vessel fishing trip in Area 3A accrue toward the 4-fish annual limit and must be recorded on the license or harvest record card. As noted above, halibut that are harvested while charter fishing in regulatory areas other than Area 3A will not accrue toward the annual limit and are not subject to the reporting requirement. Likewise, halibut harvested while sport fishing without a guide in Area 3A, harvested while subsistence fishing, or harvested as GAF do not accrue toward the annual limit and should not be recorded on the license or harvest record. Finally, halibut that are caught in any recreational fishery that bear IPHC external tags are exempt from annual limits, size limits, daily bag and possession limits, and reporting requirements (see Section 8 of the IPHC regulations).

Other Regulatory Amendments

Update of the Regulatory Description of Subarea 2A-1

The regulatory text in current Section 23 of the IPHC regulations describes the usual and accustomed fishing area for Treaty tribes that participate in IPHC regulatory Area 2A. Formerly, the description of subarea 2A-1 listed latitude and longitude coordinates for the western boundary of the area. On March 5, 2018, the United States District Court for the Western District of Washington revised the western boundaries of the usual and accustomed fishing areas for the Quileute Indian Tribe and the Quinault Indian Nation. United States v. Washington, 2:09-sp-00001-RSM (W.D. Wash. March 5, 2018) (Order Regarding Boundaries of Quinault and Quileute U&As). The IPHC adopted, and Section 23 now incorporates, a revised definition for subarea 2A-1. The regulatory language now contains a more general description of the usual and accustomed fishing areas for treaty tribes with fishing rights to Pacific halibut, and makes the definition consistent with the recent court decision.

Update and Clarify Vessel Clearance Requirements

Section 16 of the 2020 IPHC regulations specifies requirements for the operation of halibut fishing vessels in IPHC Areas 4A, 4B, 4C, and 4D. In general, vessels must obtain a vessel clearance before fishing in these areas, and before landing halibut in any of the areas. The primary intent of the regulations is to ensure proper harvesting and catch accounting among adjacent IPHC regulatory areas. Section 16 provides several specific exemptions to the basic vessel clearance requirements. Among the exemptions, subsection 16(16) allows an exemption for vessels that carry a functioning vessel monitoring system (VMS) transmitter while halibut fishing, and up to the point where all halibut are properly offloaded.

The IPHC adopted new regulatory language that updates Section 16(16) to specify that a transmitting VMS, a NOAA Fisheries observer, or a NOAA Fisheries electronic monitoring system will exempt a vessel from the vessel clearance requirements, provided that the vessel operator also complies with appropriate NOAA Fisheries observer, electronic monitoring or VMS regulations.

Minor Revisions, Clarifications to Regulatory Language, and Reordering of Some Regulatory Sections

The IPHC adopted a significant number of minor changes and amendments to the IPHC regulations. Many of the changes are made throughout the regulations for stylistic consistency among the Sections. Although minor, the individual and cumulative effect of the changes improves clarity, consistency, and currency in the regulations. Many of the changes required a reordering and renumbering of the regulations. The most prominent changes to the regulations include:

1. Section 1, Short Title, is revised to use a consistent naming convention.

2. Current Section 4, Regulatory Areas, is amended to specify that the definition of IPHC Regulatory Areas applies within the IPHC Convention waters.

3. Current Section 5, is re-titled from Limits to Mortality and Fishery Limits. A new table is added that shows the IPHC adopted TCEY distributed mortality for each regulatory area. A second table provides the catch limits that result from the TCEYs, as applied to the catch sharing arrangements employed by the respective Canada and United States governments.

4. Current Section 7, Careful Release of Pacific Halibut, is amended to include the application of both minimum and maximum size limits, in order to make the section applicable to all fisheries.

5. Current Section 8, Retention of Tagged Pacific Halibut, is revised to make it clear that tagged fish do not count against regulatory limits.

6. A table of commercial catch limits is removed from the current Section 12, as this information is now available in Section 5 and is therefore redundant. Section 12 is also retitled from Commercial Fishery Limits to Application of Commercial Fishery Limits.

7. Current Section 15, Licensing Vessels for IPHC Regulatory Area 2A, is amended to make it clear that fishing vessels in IPHC Regulatory Area 2A may hold both a license for directed commercial fishing and a license for incidental catch during the sablefish fishery.

8. Current Section 18, Fishing Gear, is amended to allow pots capable of catching Pacific halibut. Former subsections (3)(a), (b), and (c) are deleted for consistency; these subsections are no longer valid or necessary when pots are allowable gear.

9. Current Section 21, Receipt and Possession of Pacific Halibut, is revised to make it clear that IPHC Regulatory Area 2A is included in Paragraph 6 as intended.

10. Section 23, Fishing by United States Indian Tribes, is amended to remove references to specific fishery sector allocations, as this information is now available in Section 5 and is therefore redundant. Section 23 is also amended to include the Metkalatka fishery in Area 2C in Alaska.

11. References to specific fishery sector allocations are removed from Section 27, Sport Fishing for Pacific Halibut—IPHC Regulatory Area 2A, as this information is now available in current Section 5 and is therefore redundant.

Annual Halibut Management Measures

The following annual management measures for the 2020 Pacific halibut fishery are those recommended by the IPHC and accepted by the Secretary of State, with the concurrence of the Secretary of Commerce.

1. Short Title

These Regulations may be cited as the International Pacific Halibut Commission (IPHC) Regulations (2020).

2. Application

(1) These Regulations apply to persons and vessels fishing for Pacific halibut in, or possessing Pacific halibut taken from, the maritime area as defined in Section 3.

(2) Sections 3 to 8 and 30 apply generally to all Pacific halibut fishing.

(3) Sections 8 to 23 apply to commercial fishing for Pacific halibut.

(4) Section 24 applies to Indigenous fisheries in British Columbia.

(5) Section 25 applies to customary and traditional fishing in Alaska.

(6) Sections 26 to 29 apply to recreational (also called sport) fishing for Pacific halibut.

(7) These Regulations do not apply to fishing operations authorized or conducted by the Commission for research purposes.

3. Definitions

(1) In these Regulations,

(a) “authorized officer” means any State, Federal, or Provincial officer authorized to enforce these Regulations including, but not limited to, the National Marine Fisheries Service (NOAA Fisheries), Department of Fisheries and Oceans (DFO), Alaska Wildlife Troopers (AWT), United States Coast Guard (USCG), Washington Department of Fish and Wildlife (WDFW), the Oregon State Police (OSP), and California Department of Fish and Wildlife (CDFW);

(b) “authorized clearance personnel” means an authorized officer of the United States of America, a representative of the Commission, or a designated fish processor;

(c) “charter vessel” outside of Alaska waters means a vessel used for hire in recreational (sport) fishing for Pacific halibut, but not including a vessel without a hired operator, and in Alaska waters means a vessel used while providing or receiving recreational (sport) fishing guide services for Pacific halibut;

(d) “commercial fishing” means fishing, the resulting catch of which is sold or bartered; or is intended to be sold or bartered, other than (i) recreational (sport) fishing; (ii) treaty Indian ceremonial and subsistence fishing as referred to in section 23, (iii) Indigenous groups fishing in British Columbia as referred to in section 24; and (iv) customary and traditional fishing as referred to in section 25 and defined by and regulated pursuant to NOAA Fisheries regulations published at 50 CFR part 300;

(e) “Commission” or “IPHC” means the International Pacific Halibut Commission;

(f) “daily bag limit” means the maximum number of Pacific halibut a person may take in any calendar day from Convention waters;

(g) “fishing” means the taking, harvesting, or catching of fish, or any activity that can reasonably be expected to result in the taking, harvesting, or catching of fish, including specifically the deployment of any amount or component part of gear anywhere in the maritime area;

(h) “fishing period limit” means the maximum amount of Pacific halibut that may be retained and landed by a vessel during one fishing period;

(i) “land” or “offload” with respect to Pacific halibut, means the removal of Pacific halibut from the catching vessel;

(j) “license” means a Pacific halibut fishing license issued by the Commission pursuant to section 15;

(k) “maritime area,” in respect of the fisheries jurisdiction of a Contracting Party, includes without distinction areas within and seaward of the territorial sea and internal waters of that Party;

(l) “net weight” of a Pacific halibut means the weight of Pacific halibut that is without gills and entrails, head-off, washed, and without ice and slime. If a Pacific halibut is weighed with the head on or with ice and slime, the required conversion factors for calculating net weight are a 2 percent deduction for ice and slime and a 10 percent deduction for the head;

(m) “operator,” with respect to any vessel, means the owner and/or the master or other individual on board and in charge of that vessel;

(n) “overall length” of a vessel means the horizontal distance, rounded to the nearest foot, between the foremost part of the stem and the aftermost part of the stern (excluding bowsprits, rudders, outboard motor brackets, and similar fittings or attachments);

(o) “person” includes an individual, corporation, firm, or association;

(p) “regulatory area” means an IPHC Regulatory Area referred to in section 4;

(q) “setline gear” means one or more stationary, buoyed, and anchored lines with hooks attached;

(r) “sport fishing” or “recreational fishing” means all fishing other than (i) commercial fishing; (ii) treaty Indian ceremonial and subsistence fishing as referred to in section 23; (iii) Indigenous groups fishing in British Columbia as referred to in section 24; and (iv) customary and traditional fishing as referred to in section 25 and defined in and regulated pursuant to NOAA Fisheries regulations published in 50 CFR part 300;

(s) “tender” means any vessel that buys or obtains fish directly from a catching vessel and transports it to a port of landing or fish processor;

(t) “VMS transmitter” means a NOAA Fisheries-approved vessel monitoring system transmitter that automatically determines a vessel's position and transmits it to a NOAA Fisheries-approved communications service provider.¹

¹ Call NOAA Enforcement Division, Alaska Region, at 907-586-7225 between the hours of 0800 and 1600 local time for a list of NOAA Fisheries-approved VMS transmitters and communications service providers.

(2) In these Regulations, all bearings are true and all positions are determined by the most recent charts issued by the United States National Ocean Service or the Canadian Hydrographic Service.

4. IPHC Regulatory Areas

The following areas within the IPHC Convention waters shall be defined as IPHC Regulatory Areas for the purposes of the Convention (see Figure 1):

(1) IPHC Regulatory Area 2A includes all waters off the states of California, Oregon, and Washington;

(2) IPHC Regulatory Area 2B includes all waters off British Columbia;

(3) IPHC Regulatory Area 2C includes all waters off Alaska that are east of a line running 340° true from Cape Spencer Light (58°11′56″ N latitude, 136°38′26″ W longitude) and south and east of a line running 205° true from said light;

(4) IPHC Regulatory Area 3A includes all waters between Area 2C and a line extending from the most northerly point on Cape Aklek (57°41′15″ N latitude, 155°35′00″ W longitude) to Cape Ikolik (57°17′17″ N latitude, 154°47′18″ W longitude), then along the Kodiak Island coastline to Cape Trinity (56°44′50″ N latitude, 154°08′44″ W longitude), then 140° true;

(5) IPHC Regulatory Area 3B includes all waters between Area 3A and a line extending 150° true from Cape Lutke (54°29′00″ N latitude, 164°20′00″ W longitude) and south of 54°49′00″ N latitude in Isanotski Strait;

(6) IPHC Regulatory Area 4A includes all waters in the Gulf of Alaska west of Area 3B and in the Bering Sea west of the closed area defined in section 10 that are east of 172°00′00″ W longitude and south of 56°20′00″ N latitude;

(7) IPHC Regulatory Area 4B includes all waters in the Bering Sea and the Gulf of Alaska west of IPHC Regulatory Area 4A and south of 56°20′00″ N latitude;

(8) IPHC Regulatory Area 4C includes all waters in the Bering Sea north of IPHC Regulatory Area 4A and north of the closed area defined in section 10 which are east of 171°00′00″ W longitude, south of 58°00′00″ N latitude, and west of 168°00′00″ W longitude;

(9) IPHC Regulatory Area 4D includes all waters in the Bering Sea north of IPHC Regulatory Areas 4A and 4B, north and west of IPHC Regulatory Area 4C, and west of 168°00′00″ W longitude; and

(10) IPHC Regulatory Area 4E includes all waters in the Bering Sea north and east of the closed area defined in section 10, east of 168°00′00″ W longitude, and south of 65°34′00″ N latitude.

5. Mortality and Fishery Limits

(1) The Commission has adopted the following distributed mortality (TCEY) limits:

IPHC Regulatory Area | Distributed mortality limits (TCEY) (net weight): Tonnes (t) | Distributed mortality limits (TCEY) (net weight): Million pounds (Mlb)
Area 2A (California, Oregon, and Washington) | 748 | 1.65
Area 2B (British Columbia) | 3,098 | 6.83
Area 2C (southeastern Alaska) | 2,654 | 5.85
Area 3A (central Gulf of Alaska) | 5,534 | 12.20
Area 3B (western Gulf of Alaska) | 1,415 | 3.12
Area 4A (eastern Aleutians) | 794 | 1.75
Area 4B (central/western Aleutians) | 594 | 1.31
Areas 4CDE (Bering Sea) | 1,769 | 3.90
Total | 16,601 | 36.60

(2) The fishery limits resulting from the IPHC-adopted distributed mortality (TCEY) limits and the existing Contracting Party catch sharing arrangements are as follows, recognizing that each Contracting Party may implement more restrictive limits:

IPHC Regulatory Area | Fishery limits (net weight): Tonnes (t) | Fishery limits (net weight): Million pounds (Mlb)*
Area 2A (California, Oregon, and Washington) | 680 | 1.50
Non-treaty directed commercial (south of Pt. Chehalis) | 115 | * 254,426
Non-treaty incidental catch in salmon troll fishery | 20 | * 44,899
Non-treaty incidental catch in sablefish fishery (north of Pt. Chehalis) | 32 | * 70,000
Treaty Indian commercial | 224 | * 492,800
Treaty Indian ceremonial and subsistence (year-round) | 15 | * 32,200
Recreational—Washington | 126 | * 277,100
Recreational—Oregon | 131 | * 289,575
Recreational—California | 18 | * 39,000
Area 2B (British Columbia) | 2,722 | 6.00
Commercial fishery | 2,322 | 5.12
Recreational fishery | 399 | 0.88
Area 2C (southeastern Alaska) (combined commercial/guided recreational) | 1,932 | 4.26
Commercial fishery (3.41 Mlb catch and 0.70 Mlb incidental mortality) | 1,579 | 3.48
Guided recreational fishery (includes catch and incidental mortality) | 354 | 0.78
Area 3A (central Gulf of Alaska) (combined commercial/guided recreational) | 4,110 | 9.06
Commercial fishery (7.05 Mlb catch and 0.29 Mlb incidental mortality) | 3,329 | 7.34
Guided recreational fishery (includes catch and incidental mortality) | 776 | 1.71
Area 3B (western Gulf of Alaska) | 1,093 | 2.41
Area 4A (eastern Aleutians) | 640 | 1.41
Area 4B (central/western Aleutians) | 499 | 1.10
Areas 4CDE | 785 | 1.73
Area 4C (Pribilof Islands) | 347 | 0.766
Area 4D (northwestern Bering Sea) | 347 | 0.766
Area 4E (Bering Sea flats) | 90 | 0.198
Total | 12,465 | 27.48
* Allocations resulting from the IPHC Regulatory Area 2A Catch Share Plan are listed in pounds.

6. In-Season Actions

(1) The Commission is authorized to establish or modify regulations during the season after determining that such action:

(a) Will not result in exceeding the fishery limit established preseason for each IPHC Regulatory Area;

(b) is consistent with the Convention between Canada and the United States of America for the Preservation of the Halibut Fishery of the Northern Pacific Ocean and Bering Sea, and applicable domestic law of either Canada or the United States of America; and

(c) is consistent, to the maximum extent practicable, with any domestic catch sharing plans or other domestic allocation programs developed by the governments of Canada or the United States of America.

(2) In-season actions may include, but are not limited to, establishment or modification of the following:

(a) Closed areas;

(b) fishing periods;

(c) fishing period limits;

(d) gear restrictions;

(e) recreational (sport) bag limits;

(f) size limits; or

(g) vessel clearances.

(3) In-season changes will be effective at the time and date specified by the Commission.

(4) The Commission will announce in-season actions under this section by providing notice to major Pacific halibut processors; Federal, State, United States of America treaty Indian, and Provincial fishery officials; and the media.

7. Careful Release of Pacific Halibut

(1) All Pacific halibut that are caught and are not retained shall be immediately released outboard of the roller and returned to the sea with a minimum of injury by:

(a) Hook straightening;

(b) cutting the gangion near the hook; or

(c) carefully removing the hook by twisting it from the Pacific halibut with a gaff.

(2) Except that paragraph (1) shall not prohibit the possession of Pacific halibut on board a vessel that has been brought aboard to be measured to determine if the applicable size limit of the Pacific halibut is met and, if not legal-sized, is promptly returned to the sea with a minimum of injury.

8. Retention of Tagged Pacific Halibut

(1) Nothing contained in these Regulations prohibits any vessel at any time from retaining and landing a Pacific halibut that bears a Commission external tag at the time of capture, if the Pacific halibut with the tag still attached is reported at the time of landing and made available for examination by a representative of the Commission or by an authorized officer.

(2) After examination and removal of the tag by a representative of the Commission or an authorized officer, the Pacific halibut:

(a) May be retained for personal use; or

(b) may be sold only if the Pacific halibut is caught during commercial Pacific halibut fishing and complies with the other commercial fishing provisions of these Regulations.

(3) Any Pacific halibut that bears a Commission external tag will not count against commercial fishing period limits, Individual Vessel Quotas (IVQ), Individual Transferable Quota (ITQ), Community Development Quotas (CDQ), or Individual Fishing Quotas (IFQ), and are not subject to size limits in these regulations, but should still be recorded in the landing record.

(4) Any Pacific halibut that bears a Commission external tag will not count against recreational (sport) daily bag limits or possession limits, may be retained outside of recreational (sport) fishing seasons, and are not subject to size limits in these regulations.

(5) Any Pacific halibut that bears a Commission external tag will not count against daily bag limits, possession limits, or fishery limits in the fisheries described in section 23, paragraph (1)(c), section 24, or section 25.

9. Fishing Periods

(1) The fishing periods for each IPHC Regulatory Area apply where the fishery limits specified in section 5 have not been taken.

(2) Unless the Commission specifies otherwise, commercial fishing for Pacific halibut in all IPHC Regulatory Areas may begin no earlier in the year than 1200 local time on 14 March.

(3) All commercial fishing for Pacific halibut in all IPHC Regulatory Areas shall cease for the year at 1200 local time on 15 November.

(4) The first fishing period in the IPHC Regulatory Area 2A non-tribal directed commercial fishery ² shall begin at 0800 on the fourth Monday in June and terminate at 1800 local time on the subsequent Wednesday, unless the Commission specifies otherwise. If the Commission determines that the fishery limit specified for IPHC Regulatory Area 2A in Section 5 has not been exceeded, it may announce a second fishing period of up to three fishing days to begin on Monday two weeks after the first period, and, if necessary, a third fishing period of up to three fishing days to begin on Monday four weeks after the first period.

² The non-tribal directed fishery is restricted to waters that are south of Point Chehalis, Washington, (46°53.30′ N latitude) under regulations promulgated by NOAA Fisheries and published in the Federal Register.

(5) Notwithstanding paragraph (4), and paragraph (6) of section 12, an incidental catch fishery ³ is authorized during the sablefish seasons in IPHC Regulatory Area 2A in accordance with regulations promulgated by NOAA Fisheries. This fishery will occur between the dates and times listed in paragraphs (2) and (3) of this section.

³ The incidental fishery during the directed, fixed gear sablefish season is restricted to waters that are north of Point Chehalis, Washington, (46°53.30′ N latitude) under regulations promulgated by NOAA Fisheries at 50 CFR 300.63. Landing restrictions for Pacific halibut retention in the fixed gear sablefish fishery can be found at 50 CFR 660.231.

(6) Notwithstanding paragraph (4), and paragraph (6) of section 12, an incidental catch fishery is authorized during salmon troll seasons in IPHC Regulatory Area 2A in accordance with regulations promulgated by NOAA Fisheries. This fishery will occur between the dates and times listed in paragraphs (2) and (3) of this section.

10. Closed Area

All waters in the Bering Sea north of 55°00′00″ N latitude in Isanotski Strait that are enclosed by a line from Cape Sarichef Light (54°36′00″ N latitude, 164°55′42″ W longitude) to a point at 56°20′00″ N latitude, 168°30′00″ W longitude; thence to a point at 58°21′25″ N latitude, 163°00′00″ W longitude; thence to Strogonof Point (56°53′18″ N latitude, 158°50′37″ W longitude); and then along the northern coasts of the Alaska Peninsula and Unimak Island to the point of origin at Cape Sarichef Light are closed to Pacific halibut fishing and no person shall fish for Pacific halibut therein or have Pacific halibut in his/her possession while in those waters except in the course of a continuous transit across those waters. All waters in Isanotski Strait between 55°00′00″ N latitude and 54°49′00″ N latitude are closed to Pacific halibut fishing.

11. Closed Periods

(1) No person shall engage in fishing for Pacific halibut in any IPHC Regulatory Area other than during the fishing periods set out in section 9 in respect of that area.

(2) No person shall land or otherwise retain Pacific halibut caught outside a fishing period applicable to the IPHC Regulatory Area where the Pacific halibut was taken.

(3) Subject to paragraphs (7), (8), (9), and (10) of section 18, these Regulations do not prohibit fishing for any species of fish other than Pacific halibut during the closed periods.

(4) Notwithstanding paragraph (3), no person shall have Pacific halibut in his/her possession while fishing for any other species of fish during the closed periods.

(5) No vessel shall retrieve any Pacific halibut fishing gear during a closed period if the vessel has any Pacific halibut on board.

(6) A vessel that has no Pacific halibut on board may retrieve any Pacific halibut fishing gear during the closed period after the operator notifies an authorized officer or representative of the Commission prior to that retrieval.

(7) After retrieval of Pacific halibut gear in accordance with paragraph (6), the vessel shall submit to a hold inspection at the discretion of the authorized officer or representative of the Commission.

(8) No person shall retain any Pacific halibut caught on gear retrieved in accordance with paragraph (6).

(9) No person shall possess Pacific halibut on board a vessel in an IPHC Regulatory Area during a closed period unless that vessel is in continuous transit to or within a port in which that Pacific halibut may be lawfully sold.

12. Application of Commercial Fishery Limits

(1) Notwithstanding the fishery limits described in section 5, regulations pertaining to the division of the IPHC Regulatory Area 2A fishery limit between the directed commercial fishery and the incidental catch fishery as described in paragraphs (5) and (6) of section 9 will be promulgated by NOAA Fisheries and published in the Federal Register.

(2) The Commission shall determine and announce to the public the date on which the fishery limit for IPHC Regulatory Area 2A will be taken.

(3) Notwithstanding the fishery limits described in section 5, the commercial fishing in IPHC Regulatory Area 2B will close only when all Individual Vessel Quotas (IVQ) and Individual Transferable Quotas (ITQ) assigned by DFO are taken, or 15 November, whichever is earlier.

(4) Notwithstanding the fishery limits described in section 5, IPHC Regulatory Areas 2C, 3A, 3B, 4A, 4B, 4C, 4D, and 4E will each close only when all Individual Fishing Quotas (IFQ) and all CDQ issued by NOAA Fisheries have been taken, or 15 November, whichever is earlier.

(5) If the Commission determines that the fishery limit specified for IPHC Regulatory Area 2A in section 5 would be exceeded in an additional directed commercial fishing period as specified in paragraph (4) of section 9, the fishery limit for that area shall be considered to have been taken and the directed commercial fishery closed as announced by the Commission.

(6) When under paragraphs (1), (2), and (5) the Commission has announced a date on which the fishery limit for IPHC Regulatory Area 2A will be taken, no person shall fish for Pacific halibut in that area after that date for the rest of the year, unless the Commission has announced the reopening of that area for Pacific halibut fishing.

(7) Notwithstanding the fishery limits described in section 5, the total allowable catch of Pacific halibut that may be taken in the IPHC Regulatory Area 4E directed commercial fishery is equal to the combined annual fishery limits specified for the IPHC Regulatory Areas 4D and 4E CDQ fisheries and any IPHC Regulatory Area 4D IFQ received by transfer by a CDQ organization. The annual IPHC Regulatory Area 4D fishery limit will decrease by the equivalent amount of CDQ and IFQ received by transfer by a CDQ organization taken in IPHC Regulatory Area 4E in excess of the annual IPHC Regulatory Area 4E fishery limit.

(8) Notwithstanding the fishery limits described in section 5, the total allowable catch of Pacific halibut that may be taken in the IPHC Regulatory Area 4D directed commercial fishery is equal to the combined annual fishery limits specified for IPHC Regulatory Areas 4C and 4D. The annual IPHC Regulatory Area 4C fishery limit will decrease by the equivalent amount of Pacific halibut taken in IPHC Regulatory Area 4D in excess of the annual IPHC Regulatory Area 4D fishery limit.

13. Fishing in Regulatory IPHC Regulatory Areas 4D and 4E

(1) Section 13 applies only to any person fishing for, or any vessel that is used to fish for, IPHC Regulatory Area 4E Community Development Quota (CDQ) Pacific halibut, IPHC Regulatory Area 4D CDQ Pacific halibut, or IPHC Regulatory Area 4D IFQ received by transfer by a CDQ organization provided that the total annual Pacific halibut catch of that person or vessel is landed at a port within IPHC Regulatory Areas 4E or 4D.

(2) A person may retain Pacific halibut taken with setline gear that are smaller than the size limit specified in section 19, provided that no person may sell or barter such Pacific halibut.

(3) The manager of a CDQ organization that authorizes persons to harvest Pacific halibut in the IPHC Regulatory Area 4E or 4D CDQ fisheries or IFQ received by transfer by a CDQ organization must report to the Commission the total number and weight of undersized Pacific halibut taken and retained by such persons pursuant to section 13, paragraph (2). This report, which shall include data and methodology used to collect the data, must be received by the Commission prior to 1 November of the year in which such Pacific halibut were harvested.

14. Fishing Period Limits

(1) It shall be unlawful for any vessel to retain more Pacific halibut than authorized by that vessel's license in any fishing period for which the Commission has announced a fishing period limit.

(2) The operator of any vessel that fishes for Pacific halibut during a fishing period when fishing period limits are in effect must, upon commencing an offload of Pacific halibut to a commercial fish processor, completely offload all Pacific halibut on board said vessel to that processor and ensure that all Pacific halibut is weighed and reported on State fish tickets.

(3) The operator of any vessel that fishes for Pacific halibut during a fishing period when fishing period limits are in effect must, upon commencing an offload of Pacific halibut other than to a commercial fish processor, completely offload all Pacific halibut on board said vessel and ensure that all Pacific halibut are weighed and reported on State fish tickets.

(4) The provisions of paragraph (3) are not intended to prevent retail over-the-side sales to individual purchasers so long as all the Pacific halibut on board is ultimately offloaded and reported.

(5) When fishing period limits are in effect, a vessel's maximum retainable catch will be determined by the Commission based on:

(a) The vessel's overall length in feet and associated length class;

(b) the average performance of all vessels within that class; and

(c) the remaining fishery limit.

(6) Length classes are shown in the following table:

Overall length (in feet) | Vessel class
1-25 | A
26-30 | B
31-35 | C
36-40 | D
41-45 | E
46-50 | F
51-55 | G
56+ | H

(7) Fishing period limits in IPHC Regulatory Area 2A apply only to the directed Pacific halibut fishery referred to in paragraph (4) of section 9.

15. Licensing Vessels for IPHC Regulatory Area 2A

(1) No person shall fish for Pacific halibut from a vessel, nor possess Pacific halibut on board a vessel, used either for commercial fishing or as a charter vessel in IPHC Regulatory Area 2A, unless the Commission has issued a license valid for fishing in IPHC Regulatory Area 2A in respect of that vessel.

(2) A license issued for a vessel operating in IPHC Regulatory Area 2A shall be valid only for operating either as a charter vessel or a commercial vessel, but not both.

(3) A vessel with a valid IPHC Regulatory Area 2A commercial license cannot be used to recreationally (sport) fish for Pacific halibut in IPHC Regulatory Area 2A.

(4) A license issued for a vessel operating in the commercial fishery in IPHC Regulatory Area 2A shall be valid for one of the following:

(a) The directed commercial fishery during the fishing periods specified in paragraph (4) of section 9;

(b) the incidental catch fishery during the sablefish fishery specified in paragraph (5) of section 9; or

(c) the incidental catch fishery during the salmon troll fishery specified in paragraph (6) of section 9.

(5) A vessel with a valid license for the IPHC Regulatory Area 2A incidental catch fishery during the sablefish fishery described in paragraph (4)(b) may also apply for or be issued a license for the directed commercial fishery described in paragraph (4)(a).

(6) A license issued in respect to a vessel referred to in paragraph (1) of this section must be carried on board that vessel at all times and the vessel operator shall permit its inspection by any authorized officer.

(7) The Commission shall issue a license in respect to a vessel from its office in Seattle, Washington, upon receipt of a completed “Application for Vessel License for the Pacific Halibut Fishery” form.

(8) A vessel operating in the directed commercial fishery in IPHC Regulatory Area 2A must have submitted its “Application for Vessel License for the Pacific Halibut Fishery” form no later than 2359 local time on 30 April, or the first weekday in May if 30 April is a Saturday or Sunday.

(9) A vessel operating in the incidental catch fishery during the sablefish fishery in IPHC Regulatory Area 2A must have submitted its “Application for Vessel License for the Pacific Halibut Fishery” form no later than 2359 local time on 15 March, or the next weekday in March if 15 March is a Saturday or Sunday.

(10) A vessel operating in the incidental catch fishery during the salmon troll fishery in IPHC Regulatory Area 2A must have submitted its “Application for Vessel License for the Pacific Halibut Fishery” form no later than 2359 local time on 15 March, or the next weekday in March if 15 March is a Saturday or Sunday.

(11) Applications are submitted on the IPHC Secretariat web page.

(12) Information on the “Application for Vessel License for the Pacific Halibut Fishery” form must be accurate.

(13) The “Application for Vessel License for the Pacific Halibut Fishery” form shall be completed by the vessel owner.

(14) Licenses issued under this section shall be valid only during the year in which they are issued.

(15) A new license is required for a vessel that is sold, transferred, renamed, or for which the documentation is changed.

(16) The license required under this section is in addition to any license, however designated, that is required under the laws of the United States of America or any of its States.

(17) The United States of America may suspend, revoke, or modify any license issued under this section under policies and procedures in U.S. Code Title 15, CFR part 904.

16. Vessel Clearance in IPHC Regulatory Area 4

(1) The operator of any vessel that fishes for Pacific halibut in IPHC Regulatory Areas 4A, 4B, 4C, or 4D must obtain a vessel clearance before fishing in any of these areas, and before the landing of any Pacific halibut caught in any of these areas, unless specifically exempted in paragraphs (10), (13), (14), (15), or (16).

(2) An operator obtaining a vessel clearance required by paragraph (1) must obtain the clearance in person from the authorized clearance personnel and sign the IPHC form documenting that a clearance was obtained, except that when the clearance is obtained via VHF radio referred to in paragraphs (5), (8), and (9), the authorized clearance personnel must sign the IPHC form documenting that the clearance was obtained.

(3) The vessel clearance required under paragraph (1) prior to fishing in IPHC Regulatory Area 4A may be obtained only at Nazan Bay on Atka Island, Dutch Harbor, or Akutan, Alaska, from an authorized officer of the United States of America, a representative of the Commission, or a designated fish processor.

(4) The vessel clearance required under paragraph (1) prior to fishing in IPHC Regulatory Area 4B may only be obtained at Nazan Bay on Atka Island or Adak, Alaska, from an authorized officer of the United States of America, a representative of the Commission, or a designated fish processor.

(5) The vessel clearance required under paragraph (1) prior to fishing in IPHC Regulatory Area 4C or 4D may be obtained only at St. Paul or St. George, Alaska, from an authorized officer of the United States, a representative of the Commission, or a designated fish processor by VHF radio and allowing the person contacted to confirm visually the identity of the vessel.

(6) The vessel operator shall specify the specific regulatory area in which fishing will take place.

(7) Before unloading any Pacific halibut caught in IPHC Regulatory Area 4A, a vessel operator may obtain the clearance required under paragraph (1) only in Dutch Harbor or Akutan, Alaska, by contacting an authorized officer of the United States of America, a representative of the Commission, or a designated fish processor.

(8) Before unloading any Pacific halibut caught in IPHC Regulatory Area 4B, a vessel operator may obtain the clearance required under paragraph (1) only in Nazan Bay on Atka Island or Adak, by contacting an authorized officer of the United States of America, a representative of the Commission, or a designated fish processor by VHF radio or in person.

(9) Before unloading any Pacific halibut caught in IPHC Regulatory Areas 4C and 4D, a vessel operator may obtain the clearance required under paragraph (1) only in St. Paul, St. George, Dutch Harbor, or Akutan, Alaska, either in person or by contacting an authorized officer of the United States of America, a representative of the Commission, or a designated fish processor. The clearances obtained in St. Paul or St. George, Alaska, can be obtained by VHF radio and allowing the person contacted to confirm visually the identity of the vessel.

(10) Any vessel operator who complies with the requirements in section 17 for possessing Pacific halibut on board a vessel that was caught in more than one regulatory area in IPHC Regulatory Area 4 is exempt from the clearance requirements of paragraph (1) of this section, provided that:

(a) The operator of the vessel obtains a vessel clearance prior to fishing in IPHC Regulatory Area 4 in either Dutch Harbor, Akutan, St. Paul, St. George, Adak, or Nazan Bay on Atka Island by contacting an authorized officer of the United States of America, a representative of the Commission, or a designated fish processor. The clearance obtained in St. Paul, St. George, Adak, or Nazan Bay on Atka Island can be obtained by VHF radio and allowing the person contacted to confirm visually the identity of the vessel. This clearance will list the areas in which the vessel will fish; and

(b) before unloading any Pacific halibut from IPHC Regulatory Area 4, the vessel operator obtains a vessel clearance from Dutch Harbor, Akutan, St. Paul, St. George, Adak, or Nazan Bay on Atka Island by contacting an authorized officer of the United States of America, a representative of the Commission, or a designated fish processor. The clearance obtained in St. Paul or St. George can be obtained by VHF radio and allowing the person contacted to confirm visually the identity of the vessel. The clearance obtained in Adak or Nazan Bay on Atka Island can be obtained by VHF radio.

(11) Vessel clearances shall be obtained between 0600 and 1800, local time.

(12) No Pacific halibut shall be on board the vessel at the time of the clearances required prior to fishing in IPHC Regulatory Area 4.

(13) Any vessel that is used to fish for Pacific halibut only in IPHC Regulatory Area 4A and lands its total annual Pacific halibut catch at a port within IPHC Regulatory Area 4A is exempt from the clearance requirements of paragraph (1).

(14) Any vessel that is used to fish for Pacific halibut only in IPHC Regulatory Area 4B and lands its total annual Pacific halibut catch at a port within IPHC Regulatory Area 4B is exempt from the clearance requirements of paragraph (1).

(15) Any vessel that is used to fish for Pacific halibut only in IPHC Regulatory Areas 4C or 4D or 4E and lands its total annual Pacific halibut catch at a port within IPHC Regulatory Areas 4C, 4D, 4E, or the closed area defined in section 10, is exempt from the clearance requirements of paragraph (1).

(16) Any vessel that carries a NOAA Fisheries observer, a NOAA Fisheries electronic monitoring system, or a transmitting VMS transmitter while fishing for Pacific halibut in IPHC Regulatory Areas 4A, 4B, 4C, or 4D and until all Pacific halibut caught in any of these IPHC Regulatory Areas is landed, is exempt from the clearance requirements of paragraph (1) of this section, provided that:

(a) The operator of the vessel complies with NOAA Fisheries' observer or electronic monitoring regulations published at 50 CFR subpart E, or vessel monitoring system regulations published at 50 CFR 679.28(f)(3), (4) and (5); and

(b) the operator of the vessel notifies NOAA Fisheries Office for Law Enforcement at 800-304-4846 (select option 1 to speak to an Enforcement Data Clerk) between the hours of 0600 and 0000 (midnight) local time within 72 hours before fishing for Pacific halibut in IPHC Regulatory Areas 4A, 4B, 4C, or 4D and receives a VMS confirmation number.

17. Fishing Multiple Regulatory Areas

(1) Except as provided in this section, no person shall possess at the same time on board a vessel Pacific halibut caught in more than one IPHC Regulatory Area.

(2) Pacific halibut caught in more than one of the IPHC Regulatory Areas 2C, 3A, 3B, 4A, 4B, 4C, 4D, or 4E may be possessed on board a vessel at the same time only if:

(a) Authorized by NOAA Fisheries regulations published at 50 CFR Section 679.7(f)(4); and

(b) the operator of the vessel identifies the regulatory area in which each Pacific halibut on board was caught by separating Pacific halibut from different areas in the hold, tagging Pacific halibut, or by other means.

18. Fishing Gear

(1) No person shall fish for Pacific halibut using any gear other than hook and line gear,

(a) except that vessels licensed to catch sablefish in IPHC Regulatory Area 2B using sablefish trap gear as defined in the Condition of Licence can retain Pacific halibut caught as bycatch under regulations promulgated by DFO; or

(b) except that a person may retain Pacific halibut taken with longline or single pot gear if such retention is authorized by NOAA Fisheries regulations published at 50 CFR part 679.

(2) No person shall possess Pacific halibut taken with any gear other than hook and line gear,

(a) except that vessels licensed to catch sablefish in IPHC Regulatory Area 2B using sablefish trap gear as defined by the Condition of Licence can retain Pacific halibut caught as bycatch under regulations promulgated by DFO; or

(b) except that a person may possess Pacific halibut taken with longline or single pot gear if such possession is authorized by NOAA Fisheries regulations published at 50 CFR part 679.

(3) No person shall possess Pacific halibut while on board a vessel carrying any trawl nets.

(4) All gear marker buoys carried on board or used by any United States of America vessel used for Pacific halibut fishing shall be marked with one of the following:

(a) The vessel's State license number; or

(b) the vessel's registration number.

(5) The markings specified in paragraph (4) shall be in characters at least four inches in height and one-half inch in width in a contrasting color visible above the water and shall be maintained in legible condition.

(6) All gear marker buoys carried on board or used by a Canadian vessel used for Pacific halibut fishing shall be:

(a) Floating and visible on the surface of the water; and

(b) legibly marked with the identification plate number of the vessel engaged in commercial fishing from which that setline is being operated.

(7) No person on board a vessel used to fish for any species of fish anywhere in IPHC Regulatory Area 2A during the 72-hour period immediately before the fishing period for the directed commercial fishery shall catch or possess Pacific halibut anywhere in those waters during that Pacific halibut fishing period unless, prior to the start of the Pacific halibut fishing period, the vessel has removed its gear from the water and has either:

(a) Made a landing and completely offloaded its catch of other fish; or

(b) submitted to a hold inspection by an authorized officer.

(8) No vessel used to fish for any species of fish anywhere in IPHC Regulatory Area 2A during the 72-hour period immediately before the fishing period for the directed commercial fishery may be used to catch or possess Pacific halibut anywhere in those waters during that Pacific halibut fishing period unless, prior to the start of the Pacific halibut fishing period, the vessel has removed its gear from the water and has either:

(a) Made a landing and completely offloaded its catch of other fish; or

(b) submitted to a hold inspection by an authorized officer.

(9) No person on board a vessel used to fish for any species of fish anywhere in IPHC Regulatory Areas 2B, 2C, 3A, 3B, 4A, 4B, 4C, 4D, or 4E during the 72-hour period immediately before the opening of the Pacific halibut fishing season shall catch or possess Pacific halibut anywhere in those areas until the vessel has removed all of its gear from the water and has either:

(a) Made a landing and completely offloaded its entire catch of other fish; or

(b) submitted to a hold inspection by an authorized officer.

(10) No vessel used to fish for any species of fish anywhere in IPHC Regulatory Areas 2B, 2C, 3A, 3B, 4A, 4B, 4C, 4D, or 4E during the 72-hour period immediately before the opening of the Pacific halibut fishing season may be used to catch or possess Pacific halibut anywhere in those areas until the vessel has removed all of its gear from the water and has either:

(a) Made a landing and completely offloaded its entire catch of other fish; or

(b) submitted to a hold inspection by an authorized officer.

(11) Notwithstanding any other provision in these Regulations, a person may retain, possess and dispose of Pacific halibut taken with trawl gear only as authorized by Prohibited Species Donation regulations of NOAA Fisheries.

19. Size Limits

(1) No person shall take or possess any Pacific halibut that:

(a) With the head on, is less than 32 inches (81.3 cm) as measured in a straight line, passing over the pectoral fin from the tip of the lower jaw with the mouth closed, to the extreme end of the middle of the tail, as illustrated in Figure 2; or

(b) with the head removed, is less than 24 inches (61.0 cm) as measured from the base of the pectoral fin at its most anterior point to the extreme end of the middle of the tail, as illustrated in Figure 2.

(2) No person on board a vessel fishing for, or tendering, Pacific halibut in any IPHC Regulatory Area shall possess any Pacific halibut that has had its head removed, except that Pacific halibut frozen at sea with its head removed may be possessed on board a vessel by persons in IPHC Regulatory Areas 2B, 2C, 3A, 3B, 4A, 4B, 4C, 4D, and 4E if authorized by Federal regulations.

(3) The size limit in paragraph (1)(b) will not be applied to any Pacific halibut that has had its head removed after the operator has landed the Pacific halibut.

20. Logs

(1) The operator of any U.S. vessel fishing for Pacific halibut that has an overall length of 26 feet (7.9 meters) or greater shall maintain an accurate log of Pacific halibut fishing operations. The operator of a vessel fishing in waters in and off Alaska must use one of the following logbooks: The Groundfish/IFQ Longline and Pot Gear Daily Fishing Logbook, in electronic or paper form, provided by NOAA Fisheries; the Alaska hook-and-line logbook provided by Petersburg Vessel Owners Association or Alaska Longline Fisherman's Association; the Alaska Department of Fish and Game (ADFG) longline-pot logbook; or the logbook provided by IPHC. The operator of a vessel fishing in IPHC Regulatory Area 2A must use either the WDFW Voluntary Sablefish Logbook, Oregon Department of Fish and Wildlife (ODFW) Fixed Gear Logbook, or the logbook provided by IPHC.

(2) The logbook referred to in paragraph (1) must include the following information:

(a) The name of the vessel and the State (ADFG, WDFW, ODFW, or CDFW) or Tribal ID number;

(b) the date(s) upon which the fishing gear is set or retrieved;

(c) the latitude and longitude coordinates or a direction and distance from a point of land for each set or day;

(d) the number of skates deployed or retrieved, and number of skates lost; and

(e) the total weight or number of Pacific halibut retained for each set or day.

(3) The logbook referred to in paragraph (1) shall be:

(a) Maintained on board the vessel;

(b) updated not later than 24 hours after 0000 (midnight) local time for each day fished and prior to the offloading or sale of Pacific halibut taken during that fishing trip;

(c) retained for a period of two years by the owner or operator of the vessel;

(d) open to inspection by an authorized officer or any authorized representative of the Commission upon demand; and

(e) kept on board the vessel when engaged in Pacific halibut fishing, during transits to port of landing, and until the offloading of all Pacific halibut is completed.

(4) The log referred to in paragraph (1) does not apply to the incidental Pacific halibut fishery during the salmon troll season in IPHC Regulatory Area 2A defined in paragraph (6) of section 9.

(5) The operator of any Canadian vessel fishing for Pacific halibut shall maintain an accurate record in the British Columbia Integrated Groundfish Fishing Log.

(6) The log referred to in paragraph (5) must include the following information:

(a) The name of the vessel and the DFO vessel registration number;

(b) the date(s) upon which the fishing gear is set and retrieved;

(c) the latitude and longitude coordinates for each set;

(d) the number of skates deployed or retrieved, and number of skates lost; and

(e) the total weight or number of Pacific halibut retained for each set.

(7) The log referred to in paragraph (5) shall be:

(a) Maintained on board the vessel;

(b) retained for a period of two years by the owner or operator of the vessel;

(c) open to inspection by an authorized officer or any authorized representative of the Commission upon demand;

(d) kept on board the vessel when engaged in Pacific halibut fishing, during transits to port of landing, and until the offloading of all Pacific halibut is completed;

(e) submitted to the DFO within seven days of offloading; and

(f) submitted to the Commission within seven days of the final offload if not previously collected by a Commission employee.

(8) No person shall make a false entry in a log referred to in this section.

21. Receipt and Possession of Pacific Halibut

(1) No person shall receive Pacific halibut caught in IPHC Regulatory Area 2A from a United States of America vessel that does not have on board the license required by section 15.

(2) No person shall possess on board a vessel a Pacific halibut other than whole or with gills and entrails removed, except that this paragraph shall not prohibit the possession on board a vessel of:

(a) Pacific halibut cheeks cut from Pacific halibut caught by persons authorized to process the Pacific halibut on board in accordance with NOAA Fisheries regulations published at 50 CFR part 679;

(b) fillets from Pacific halibut offloaded in accordance with section 21 that are possessed on board the harvesting vessel in the port of landing up to 1800 local time on the calendar day following the offload; ⁴ and

⁴ DFO has more restrictive regulations; therefore, section 21 paragraph (2)(b) does not apply to fish caught in IPHC Regulatory Area 2B or landed in British Columbia.

(c) Pacific halibut with their heads removed in accordance with section 19.

(3) No person shall offload Pacific halibut from a vessel unless the gills and entrails have been removed prior to offloading.⁵

⁵ DFO did not adopt this regulation; therefore, section 21 paragraph (3) does not apply to fish caught in IPHC Regulatory Area 2B.

(4) It shall be the responsibility of a vessel operator who lands Pacific halibut to continuously and completely offload at a single offload site all Pacific halibut on board the vessel.

(5) A registered buyer (as that term is defined in regulations promulgated by NOAA Fisheries and codified at 50 CFR part 679) who receives Pacific halibut harvested in IFQ and CDQ fisheries in IPHC Regulatory Areas 2C, 3A, 3B, 4A, 4B, 4C, 4D, and 4E, directly from the vessel operator that harvested such Pacific halibut must weigh all the Pacific halibut received and record the following information on Federal catch reports: date of offload; name of vessel; vessel number (State, Tribal or Federal, not IPHC vessel number); scale weight obtained at the time of offloading, including the scale weight (in pounds) of Pacific halibut purchased by the registered buyer, the scale weight (in pounds) of Pacific halibut offloaded in excess of the IFQ or CDQ, the scale weight of Pacific halibut (in pounds) retained for personal use or for future sale, and the scale weight (in pounds) of Pacific halibut discarded as unfit for human consumption. All Pacific halibut harvested in IFQ or CDQ fisheries in Areas IPHC Regulatory 2C, 3A, 3B, 4A, 4B, 4C, 4D, and 4E, must be weighed with the head on and the head-on weight must be recorded on Federal catch reports as specified in this paragraph, unless the Pacific halibut is frozen at sea and exempt from the head-on landing requirement at section 19(2).

(6) The first recipient, commercial fish processor, or buyer in the United States of America who purchases or receives Pacific halibut directly from the vessel operator that harvested such Pacific halibut must weigh and record all Pacific halibut received and record the following information on State fish tickets: the date of offload; vessel number (State or Federal, not IPHC vessel number) or Tribal ID number; total weight obtained at the time of offload including the weight (in pounds) of Pacific halibut purchased; the weight (in pounds) of Pacific halibut offloaded in excess of the IFQ, CDQ, or fishing period limits; the weight of Pacific halibut (in pounds) retained for personal use or for future sale; and the weight (in pounds) of Pacific halibut discarded as unfit for human consumption. All Pacific halibut harvested in fisheries in IPHC Regulatory Areas 2A, 2C, 3A, 3B, 4A, 4B, 4C, 4D, and 4E must be weighed with the head on and the head-on weight must be recorded on State fish tickets as specified in this paragraph, unless the Pacific halibut is frozen at sea and exempt from the head-on landing requirement at section 19(2).

(7) For Pacific halibut landings made in Alaska, the requirements as listed in paragraphs (5) and (6) can be met by recording the information in the Interagency Electronic Reporting Systems, eLandings, in accordance with NOAA Fisheries regulation published at 50 CFR part 679.

(8) The master or operator of a Canadian vessel that was engaged in Pacific halibut fishing must weigh and record all Pacific halibut on board said vessel at the time offloading commences and record on Provincial fish tickets or Federal catch reports: The date; locality; name of vessel; the name(s) of the person(s) from whom the Pacific halibut was purchased; and the scale weight obtained at the time of offloading of all Pacific halibut on board the vessel including the pounds purchased, pounds in excess of IVQs or ITQs, pounds retained for personal use, and pounds discarded as unfit for human consumption. All Pacific halibut must be weighed with the head on and the head-on weight must be recorded on the Provincial fish tickets or Federal catch reports as specified in this paragraph, unless the Pacific halibut is frozen at sea and exempt from the head-on landing requirement at section 19(2).

(9) No person shall make a false entry on a State or Provincial fish ticket or a Federal catch or landing report referred to in paragraphs (5), (6), and (8) of this section.

(10) A copy of the fish tickets or catch reports referred to in paragraphs (5), (6), and (8) shall be:

(a) Retained by the person making them for a period of three years from the date the fish tickets or catch reports are made; and

(b) open to inspection by an authorized officer or any authorized representative of the Commission.

(11) No person shall possess any Pacific halibut taken or retained in contravention of these Regulations.

(12) When Pacific halibut are landed to other than a commercial fish processor, the records required by paragraph (6) shall be maintained by the operator of the vessel from which that Pacific halibut was caught, in compliance with paragraph (10).

(13) No person shall tag Pacific halibut unless the tagging is authorized by IPHC permit or by a Federal or State agency.

22. Supervision of Unloading and Weighing

The unloading and weighing of Pacific halibut may be subject to the supervision of authorized officers to assure the fulfillment of the provisions of these Regulations.

23. Fishing by United States Indian Tribes

(1) Pacific halibut fishing in IPHC Regulatory Area Subarea 2A-1 by members of United States treaty Indian tribes located in the State of Washington shall be regulated under regulations promulgated by NOAA Fisheries and published in the Federal Register.

(a) Subarea 2A-1 includes the usual and accustomed fishing areas for Pacific Coast treaty tribes off the coast of Washington and all inland marine waters of Washington north of Point Chehalis (46°53.30′ N lat.), including Puget Sound. Boundaries of a tribe's fishing area may be revised as ordered by a United States Federal court.

(b) Section 15 (Licensing Vessels for IPHC Regulatory Area 2A) does not apply to commercial fishing for Pacific halibut in Subarea 2A-1 by Indian tribes.

(c) Ceremonial and subsistence fishing for Pacific halibut in Subarea 2A-1 is permitted with hook and line gear from 1 January through 31 December.

(2) In IPHC Regulatory Area 2C, the Metlakatla Indian Community has been authorized by the United States Government to conduct a commercial Pacific halibut fishery within the Annette Islands Reserve. Fishing periods for this fishery are announced by the Metlakatla Indian Community and the Bureau of Indian Affairs. Landings in this fishery are accounted with the commercial landings for IPHC Regulatory Area 2C.

(3) Section 7 (careful release of Pacific halibut), section 18 (fishing gear), except paragraphs (7) and (8) of section 18, section 19 (size limits), section 20 (logs), and section 21 (receipt and possession of Pacific halibut) apply to commercial fishing for Pacific halibut by Indian tribes.

(4) Regulations in paragraph (3) of this section that apply to State fish tickets apply to Tribal tickets that are authorized by WDFW and ADFG.

(5) Commercial fishing for Pacific halibut is permitted with hook and line gear between the dates specified in section 9 paragraphs (2) and (3), or until the applicable fishery limit specified in section 5 is taken, whichever occurs first.

24. Indigenous Groups Fishing for Food, Social and Ceremonial Purposes in British Columbia

(1) Fishing for Pacific halibut for food, social and ceremonial purposes by Indigenous groups in IPHC Regulatory Area 2B shall be governed by the Fisheries Act of Canada and regulations as amended from time to time.

25. Customary and Traditional Fishing in Alaska

(1) Customary and traditional fishing for Pacific halibut in IPHC Regulatory Areas 2C, 3A, 3B, 4A, 4B, 4C, 4D, and 4E shall be governed pursuant to regulations promulgated by NOAA Fisheries and published in 50 CFR part 300.

(2) Customary and traditional fishing is authorized from 1 January through 31 December.

26. Recreational (Sport) Fishing for Pacific Halibut—General

(1) No person shall engage in recreational (sport) fishing for Pacific halibut using gear other than a single line with no more than two hooks attached; or a spear.

(2) Any size limit promulgated under IPHC or domestic regulations shall be measured in a straight line passing over the pectoral fin from the tip of the lower jaw with the mouth closed, to the extreme end of the middle of the tail as depicted in Figure 2.

(3) Any Pacific halibut brought aboard a vessel and not immediately returned to the sea with a minimum of injury will be included in the daily bag limit of the person catching the Pacific halibut.

(4) No person may possess Pacific halibut on a vessel while fishing in a closed area.

(5) No Pacific halibut caught by recreational (sport) fishing shall be offered for sale, sold, traded, or bartered.

(6) No Pacific halibut caught in recreational (sport) fishing shall be possessed on board a vessel when other fish or shellfish aboard said vessel are destined for commercial use, sale, trade, or barter.

(7) The operator of a charter vessel shall be liable for any violations of these Regulations committed by an angler on board said vessel. In Alaska, the charter vessel guide, as defined in 50 CFR 300.61 and referred to in 50 CFR 300.65, 300.66, and 300.67, shall be liable for any violation of these Regulations committed by an angler on board a charter vessel.

27. Recreational (Sport) Fishing for Pacific Halibut—IPHC Regulatory Area 2A

(1) The Commission shall determine and announce closing dates to the public for any area in which the fishery limits promulgated by NOAA Fisheries are estimated to have been taken.

(2) When the Commission has determined that a subquota under paragraph (7) of this section is estimated to have been taken, and has announced a date on which the season will close, no person shall recreational (sport) fish for Pacific halibut in that area after that date for the rest of the year, unless a reopening of that area for recreational (sport) Pacific halibut fishing is scheduled in accordance with the Catch Sharing Plan for IPHC Regulatory Area 2A, or announced by the Commission.

(3) In California, Oregon, or Washington, no person shall fillet, mutilate, or otherwise disfigure a Pacific halibut in any manner that prevents the determination of minimum size or the number of fish caught, possessed, or landed.

(4) The possession limit on a vessel for Pacific halibut in the waters off the coast of Washington is the same as the daily bag limit. The possession limit for Pacific halibut on land in Washington is two daily bag limits.

(5) The possession limit on a vessel for Pacific halibut caught in the waters off the coast of Oregon is the same as the daily bag limit. The possession limit for Pacific halibut on land in Oregon is three daily bag limits.

(6) The possession limit on a vessel for Pacific halibut caught in the waters off the coast of California is one daily bag limit. The possession limit for Pacific halibut on land in California is one daily bag limit.

(7) Specific regulations describing fishing periods, fishery limits, fishing dates, and daily bag limits are promulgated by NOAA Fisheries and published in the Federal Register.

28. Recreational (Sport) Fishing for Pacific Halibut—IPHC Regulatory Area 2B

(1) In all waters off British Columbia: 6 7

⁶ DFO could implement more restrictive regulations for the recreational (sport) fishery, therefore anglers are advised to check the current Federal or Provincial regulations prior to fishing.

⁷ For regulations on the experimental recreational fishery implemented by DFO check the current Federal or Provincial regulations.

(a) The recreational (sport) fishing season will open on 1 February unless more restrictive regulations are in place;

(b) the recreational (sport) fishing season will close when the recreational (sport) fishery limit allocated by DFO is taken, or 31 December, whichever is earlier; and

(c) the daily bag limit is two Pacific halibut of any size per day per person.

(2) In British Columbia, no person shall fillet, mutilate, or otherwise disfigure a Pacific halibut in any manner that prevents the determination of minimum size or the number of fish caught, possessed, or landed.

(3) The possession limit for Pacific halibut in the waters off the coast of British Columbia is three Pacific halibut.6 7

29. Recreational (Sport) Fishing for Pacific Halibut—IPHC Regulatory Areas 2C, 3A, 3B, 4A, 4B, 4C, 4D, 4E

(1) In Convention waters in and off Alaska: 8 9

⁸ NOAA Fisheries could implement more restrictive regulations for the recreational (sport) fishery or components of it, therefore, anglers are advised to check the current Federal or State regulations prior to fishing.

⁹ Charter vessels are prohibited from harvesting Pacific halibut in IPHC Regulatory Areas 2C and 3A during one charter vessel fishing trip under regulations promulgated by NOAA Fisheries at 50 CFR 300.66.

(a) The recreational (sport) fishing season is from 1 February to 31 December.

(b) The daily bag limit is two Pacific halibut of any size per day per person unless a more restrictive bag limit applies in Commission regulations or Federal regulations at 50 CFR 300.65.

(c) No person may possess more than two daily bag limits.

(d) No person shall possess on board a vessel, including charter vessels and pleasure craft used for fishing, Pacific halibut that have been filleted, mutilated, or otherwise disfigured in any manner, except that each Pacific halibut may be cut into no more than 2 ventral pieces, 2 dorsal pieces, and 2 cheek pieces, with a patch of skin on each piece, naturally attached.

(e) Pacific halibut in excess of the possession limit in paragraph (1)(c) of this section may be possessed on a vessel that does not contain recreational (sport) fishing gear, fishing rods, hand lines, or gaffs.

(f) Pacific halibut harvested on a charter vessel fishing trip in IPHC Regulatory Areas 2C or 3A must be retained on board the charter vessel on which the Pacific halibut was caught until the end of the charter vessel fishing trip as defined at 50 CFR 300.61.

(g) Guided angler fish (GAF), as described at 50 CFR 300.65, may be used to allow a charter vessel angler to harvest additional Pacific halibut up to the limits in place for unguided anglers, and are exempt from the requirements in paragraphs (2) and (3) of this section.

(2) For guided recreational (sport) fishing (as referred to in 50 CFR 300.65) in IPHC Regulatory Area 2C:

(a) No person on board a charter vessel (as referred to in 50 CFR 300.65) shall catch and retain more than one Pacific halibut per calendar day.

(b) No person on board a charter vessel (as referred to in 50 CFR 300.65) shall catch and retain any Pacific halibut that with head on is greater than 40 inches (101.6 cm) and less than 80 inches (203.2 cm) as measured in a straight line, passing over the pectoral fin from the tip of the lower jaw with mouth closed, to the extreme end of the middle of the tail.

(3) For guided recreational (sport) fishing (as referred to in 50 CFR 300.65) in IPHC Regulatory Area 3A:

(a) No person on board a charter vessel (as referred to in 50 CFR 300.65) shall catch and retain more than two Pacific halibut per calendar day.

(b) At least one of the retained Pacific halibut must have a head-on length of no more than 26 inches (66.0 cm) as measured in a straight line, passing over the pectoral fin from the tip of the lower jaw with mouth closed, to the extreme end of the middle of the tail. If a person recreational (sport) fishing on a charter vessel in IPHC Regulatory Area 3A retains only one Pacific halibut in a calendar day, that Pacific halibut may be of any length.

(c) A “charter halibut permit” (as referred to in 50 CFR 300.67) may only be used for one charter vessel fishing trip in which Pacific halibut are caught and retained per calendar day. A charter vessel fishing trip is defined at 50 CFR 300.61 as the time period between the first deployment of fishing gear into the water by a charter vessel angler (as defined at 50 CFR 300.61) and the offloading of one or more charter vessel anglers or any Pacific halibut from that vessel. For purposes of this trip limit, a charter vessel fishing trip ends at 2359 (Alaska local time) on the same calendar day that the fishing trip began, or when any anglers or Pacific halibut are offloaded, whichever comes first.

(d) A charter vessel on which one or more anglers catch and retain Pacific halibut may only make one charter vessel fishing trip per calendar day. A charter vessel fishing trip is defined at 50 CFR 300.61 as the time period between the first deployment of fishing gear into the water by a charter vessel angler (as defined at 50 CFR 300.61) and the offloading of one or more charter vessel anglers or any Pacific halibut from that vessel. For purposes of this trip limit, a charter vessel fishing trip ends at 2359 (Alaska local time) on the same calendar day that the fishing trip began, or when any anglers or Pacific halibut are offloaded, whichever comes first.

(e) No person on board a charter vessel may catch and retain Pacific halibut on any Tuesday or Wednesday.

(f) Charter vessel anglers may catch and retain no more than four (4) Pacific halibut per calendar year on board charter vessels in IPHC Regulatory Area 3A. Pacific halibut that are retained as GAF, retained while on a charter vessel fishing trip in other Commission regulatory areas, or retained while fishing without the services of a guide do not accrue toward the 4-fish annual limit. For purposes of enforcing the annual limit, each angler must:

(1) maintain a nontransferable harvest record in the angler's possession if retaining a Pacific halibut for which an annual limit has been established. Such harvest record must be maintained either on the back of the angler's State of Alaska recreational (sport) fishing license or on a Sport Fishing Harvest Record Card obtained, without charge, from ADF&G offices, the ADF&G website, or fishing license vendors; and

(2) immediately upon retaining a Pacific halibut for which an annual limit has been established, record the date, location (IPHC Regulatory Area 3A), and species of the catch (Pacific halibut), in ink, on the harvest record; and

(3) record the information required by paragraph 3(g)(2) on any duplicate or additional recreational (sport) fishing license issued to the angler or any duplicate or additional Sport Fishing Harvest Record Card obtained by the angler for all Pacific halibut previously retained during that year that were subject to the harvest record reporting requirements of this section; and

(4) carry the harvest record on his or her person while fishing for Pacific halibut.

30. Previous Regulations Superseded

These Regulations shall supersede all previous regulations of the Commission, and these Regulations shall be effective each succeeding year until superseded.

BILLING CODE 3510-22-P

BILLING CODE 3510-22-C

Classification

IPHC Regulations

These IPHC annual management measures are a product of an agreement between the United States and Canada and are published in the Federal Register to provide notice of their effectiveness and content. Pursuant to section 4 of the Northern Pacific Halibut Act of 1982, 16 U.S.C. 773b, the Secretary of State, with the concurrence of the Secretary of Commerce, may “accept or reject” but not modify these recommendations of the IPHC. The notice-and-comment and delay-in-effectiveness date provisions of the Administrative Procedure Act (APA), 5 U.S.C. 553(b) and (d), are inapplicable to IPHC management measures because this regulation involves a foreign affairs function of the United States, 5 U.S.C. 553(a)(1). As stated above, the Secretary of State has no discretion to modify the recommendations of the IPHC. The additional time necessary to comply with the notice-and-comment and delay-in-effectiveness requirements of the APA would disrupt coordinated international conservation and management of the halibut fishery pursuant to the Convention. Additionally, these IPHC management measures are published pursuant to regulations at 50 CFR 300.62 which mandate “immediate regulatory effect” upon publication in the Federal Register. The promulgation of 50 CFR 300.62, thus, notified the public that IPHC management measures are revised annually and are in effect immediately upon publication. Furthermore, no other law requires prior notice and public comment for this rule. Because prior notice and an opportunity for public comment are not required to be provided for these portions of this rule by 5 U.S.C. 553, or any other law, the analytical requirements of the Regulatory Flexibility Act, 5 U.S.C. 601 et seq., are not applicable. Accordingly, no Regulatory Flexibility Analysis is required for this portion of the rule and none has been prepared. This final rule has been determined to be not significant for the purposes of Executive Order 12866. Because this is not a significant rule, the provisions of Executive Order 13771 are inapplicable.

Authority: 16 U.S.C. 773 et seq.

Dated: March 10, 2020.
Samuel D. Rauch, III,
Deputy Assistant Administrator for Regulatory Programs, National Marine Fisheries Service.

[FR Doc. 2020-05228 Filed 3-12-20; 8:45 am]

BILLING CODE 3510-22-P